ENVIRONMENTAL PROTECTION AGENCY

[FRL-7571-5]

Good Neighbor Environmental Board Meeting

AGENCY: Environmental Protection Agency (EPA).

ACTION: Notice of meeting.

SUMMARY: The next meeting of the Good Neighbor Environmental Board, a Federal advisory committee that reports to the President and Congress on environmental and infrastructure projects along the U.S. border with Mexico, will take place in Imperial Beach, California, on October 22-23, 2003. It is open to the public.

DATES: On October 22, the meeting will begin at 8:30 a.m. (registration at 8 a.m.) and end at 6 p.m. On October 23, the Board will hold a routine business meeting from 8 a.m. until 12 noon (registration at 7:30 a.m.).

ADDRESSES: The meeting site is the Dempsey Holder Safety Center, 950 Ocean Lane, Imperial Beach, California.

FOR FURTHER INFORMATION CONTACT: Elaine M. Koerner, Designated Federal Officer for the Good Neighbor Environmental Board, U.S. Environmental Protection Agency Region 9 Office, 75 Hawthorne St., San Francisco, California 94105. Tel: (415) 972-3437; E-mail: koerner.elaine@epa.gov.

SUPPLEMENTARY INFORMATION: Meeting Access: Individuals requiring special accommodation at this meeting, including wheelchair access to the conference room, should contact the Designated Federal Officer at least five business days prior to the meeting so that appropriate arrangements can be made.

Agenda: On the morning of October 22, the first day of the meeting, guest speakers will discuss the meeting theme of “U.S.-Mexico Border Cooperation” as it relates to the activities of their organizations. The morning session will begin at 8:30 a.m. and conclude with a public comment session from 12-12:30 p.m. For this session, the Board invites comments on a wide range of issues, including the topic for its upcoming Seventh Report: Links between children's health in the border region and the region's environmental infrastructure. During the afternoon of October 22, beginning at 2 p.m., guest speakers will continue to address the meeting theme until 3 p.m. From 3-3:45 p.m., Board members will report out on the activities of their organizations. After a fifteen minute break, there will be a two-hour Joint Session with Consejos Consultivos during which the Board will discuss mutual areas of interest with two counterpart Mexican advisory groups for the northern border. The first day of the meeting will conclude at 6:00 p.m. The second day of the meeting, October 23, will begin at 8 a.m. and conclude at noon. The format will be a routine business meeting, with agenda items including approval of minutes, planning for upcoming meetings, and status of reports.

Public Attendance: The public is welcome to attend all portions of the meeting. Members of the public who plan to file written statements and/or make brief (suggested 5-minute limit) oral statements at the public comment session are encouraged to contact the Designated Federal Officer for the Board prior to the meeting.

Background: The Good Neighbor Environmental Board meets three times each calendar year at different locations along the U.S.-Mexico border and also holds an annual strategic planning session. It was created by the Enterprise for the Americas Initiative Act of 1992. An Executive Order delegates implementing authority to the Administrator of EPA. The Board is responsible for providing advice to the President and the Congress on environmental and infrastructure issues and needs within the States contiguous to Mexico in order to improve the quality of life of persons residing on the United States side of the border. The statute calls for the Board to have representatives from U.S. Government agencies; the governments of the States of Arizona, California, New Mexico and Texas; and private organizations with expertise on environmental and infrastructure problems along the southwest border. The U.S. Environmental Protection Agency gives notice of this meeting of the Good Neighbor Environmental Board pursuant to the Federal Advisory Committee Act (Pub. L. 92-463).

Dated: September 29, 2003.
Oscar Carrillo,
Acting Designated Federal Officer.

[FR Doc. 03-25549 Filed 10-7-03; 8:45 am]

BILLING CODE 6560-50-P